DEPARTMENT OF THE INTERIOR

National Park Service

[NPS-WASO-NAGPRA-NPS0038731; PPWOCRADN0-PCU00RP14.R50000]

Notice of Intended Repatriation: Peabody Museum of Archaeology and Ethnology, Harvard University, Cambridge, MA

AGENCY: National Park Service, Interior.

ACTION: Notice.

SUMMARY: In accordance with the Native American Graves Protection and Repatriation Act (NAGPRA), the Peabody Museum of Archaeology and Ethnology, Harvard University (PMAE) intends to repatriate certain cultural items that meet the definition of sacred objects and that have a cultural affiliation with the Indian Tribes or Native Hawaiian organizations in this notice.

DATES: Repatriation of the cultural items in this notice may occur on or after October 21, 2024.

ADDRESSES: Deanna Byrd, Peabody Museum of Archaeology and Ethnology, Harvard University, 11 Divinity Avenue, Cambridge, MA 02138, telephone (617) 384-0672, deannabyrd@fas.harvard.edu.

SUPPLEMENTARY INFORMATION: This notice is published as part of the National Park Service's administrative responsibilities under NAGPRA. The determinations in this notice are the sole responsibility of the PMAE, and additional information on the determinations in this notice, including the results of consultation, can be found in the summary or related records. The National Park Service is not responsible for the determinations in this notice.

Abstract of Information Available

A total of eight lots of cultural items have been requested for repatriation. The eight lots of sacred objects are one lot of faunal remains, one lot of floral remains, one lot of small percussion instruments, one lot of obsidian knives, one lot of stone implements, one lot of fabric bags, one lot of iron dishes, and one lot of netting. Grace Nicholson purchased these sacred objects from Dr. Bob Fred Hogan, a known Tribal member of the Big Valley Band of Pomo Indians of the Big Valley Rancheria, California, in 1905-1906. Nicholson purchased these sacred objects on behalf of Lewis Hobart Farlow who donated them to the PMAE in 1906. The PMAE scanned sixty organic items from the Dr. Bob Fred Hogan collection with x-ray fluorescence (XRF) at the request of Tribal Chairman Flaman Craig McCloud, Jr. Results determined the presence of the following heavy metals: iron, lead, arsenic, and mercury.

Determinations

The PMAE has determined that:

• The eight lots of sacred objects described in this notice are specific ceremonial objects needed by a traditional Native American religious leader for present-day adherents to practice traditional Native American religion, according to the Native American traditional knowledge of a lineal descendant, Indian Tribe, or Native Hawaiian organization.

• There is a reasonable connection between the cultural items described in this notice and the Big Valley Band of Pomo Indians of the Big Valley Rancheria, California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after October 21, 2024. If competing requests for repatriation are received, the PMAE must determine the most appropriate requestor prior to repatriation. Requests for joint repatriation of the cultural items are considered a single request and not competing requests. The PMAE is responsible for sending a copy of this notice to the Indian Tribes and Native Hawaiian organizations identified in this notice and to any other consulting parties.

Authority: Native American Graves Protection and Repatriation Act, 25 U.S.C. 3004 and the implementing regulations, 43 CFR 10.9.

Dated: September 12, 2024.
Melanie O'Brien,
Manager, National NAGPRA Program.

[FR Doc. 2024-21534 Filed 9-19-24; 8:45 am]

BILLING CODE 4312-52-P